DEPARTMENT OF COMMERCE

National Oceanic and Atmospheric Administration

RIN 0648-XD730

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, February 10, 2015 through Thursday, February 12, 2015. For agenda details, see SUPPLEMENTARY INFORMATION.

ADDRESSES: The meeting will be held at the Doubletree by Hilton Raleigh Brownstone-University, 1707 Hillsborough Street, Raleigh, NC 27605; telephone: (919) 828-0811.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The following items are on the agenda, however, agenda items may be addressed out of order (changes will be noted on the Council's Web site when possible.)

Tuesday, February 10, 2015

1 p.m.-3 p.m.

Research Set-Aside (Cooperative Research) Committee

—Discuss goals for a MAFMC cooperative research program and criteria for evaluating success

—Review and decide on a plan of action, including whether the following are needed: additional committee members, a Fishery Management Action Team (FMAT), and/or an advisory panel

—Discuss workshop and potential invitees

3 p.m.

Council Convenes

3 p.m.-5:30 p.m.

Climate Change and Fisheries—Ecosystem Approach to Fisheries Management

—NOAA Fisheries Climate Science Strategy, Roger Griffis—NMFS

—Review Climate White Paper

—Discuss incorporation of climate change and variability into Council fishery science and management programs

Wednesday, February 11, 2015

9 a.m.

Council Convenes

9 a.m.-10:30 a.m.

Surfclam and Ocean Quahog Cost Recovery Amendment

—Review public hearing comments

—Select preferred alternatives for submission to NMFS

10:30 a.m.-11:50 a.m.

Omnibus Observer Amendment

—Review and approve document for public comment and hearings

11:50 a.m.-12 p.m.

Ricks E Savage Award

1 p.m.-5 p.m.

Deep Sea Coral Amendment

—Review public hearing comments

—Select preferred alternatives for submission to NMFS

5 p.m.-6 p.m.

Listening Session—MRIP New Effort Estimation Methodology, Rob Andrews—NMFS

Thursday, February 12, 2015

8 a.m.

Council Convenes

8 a.m.-8:30 a.m.

ACCSP Presentation—Recent Data Collection Improvements, Mike Cahall—ACCSP

8:30 a.m.-9 a.m.

Electronic Technology Implementation Plan—Update, Dan Morris—NMFS

9 a.m.-1 p.m.

Business Session

Organization Reports

—NMFS Greater Atlantic Regional Office

—NMFS Northeast Fisheries Science Center

—Stock Assessment Program Review and Follow-up

—NOAA Office of General Counsel

—NOAA Office of Law Enforcement

—U.S. Coast Guard

—Atlantic States Marine Fisheries Commission

Liaison Reports

—New England Council

—South Atlantic Council

Executive Director's Report, Chris Moore

Science Report, Rich Seagraves

Committee Reports

—RSA (Cooperative Research) Committee

—Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: January 20, 2015.
Tracey L. Thompson,
Acting Deputy Director, Office of Sustainable Fisheries, National Marine Fisheries Service.

[FR Doc. 2015-01147 Filed 1-22-15; 8:45 am]

BILLING CODE 3510-22-P